DEPARTMENT OF ENERGY

Federal Energy Regulatory Commission

Columbia Gas Transmission Corporation; Notice of Request for Permission To Withdraw Tariff Filing

March 11, 2008.

Take notice that on March 3, 2008, Columbia Gas Transmission Corporation (Columbia) requests permission from the FERC to withdraw in its entirety Columbia's proposed tariff sheet filing in the approved referenced docket made on November 7, 2007. Columbia contends that good cause exists justifying such a withdrawal and that withdrawing the proceeding will ensure that Columbia, Commission Staff, and the parties will no longer expend valuable resources litigating the tariff proposals contained in Columbia's November 7, 2007 Rate Schedule SIT filing.

Any person desiring to protest this filing must file in accordance with Rules 211 and 214 of the Commission's Rules of Practice and Procedure (18 CFR 385.211 and 385.214). Protests will be considered by the Commission in determining the appropriate action to be taken, but will not serve to make protestants parties to the proceeding. Such protests must be filed in accordance with the provisions of Section 154.210 of the Commission's regulations (18 CFR 154.210). Anyone filing a protest must serve a copy of that document on the parties to the proceeding.

The Commission encourages electronic submission of protests in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filing in the above proceeding is accessible in the Commission's eLibrary system by clicking on the appropriate link in the above list. They are also available for review in the Commission's Public Reference Room in Washington, DC. There is an eSubscription link on the Web site that enables subscribers to receive e-mail notification when a document is added to a subscribed dockets. For assistance with any FERC Online service, please e-mail FERCOnlineSupport@ferc.gov. or call (866) 208-3676 (toll free). For TTY, call (202) 502-8659.

Comment Date: 5 p.m. Eastern Time on Monday, March 17, 2008.

Kimberly D. Bose,
Secretary.

[FR Doc. E8-5252 Filed 3-14-08; 8:45 am]

BILLING CODE 6717-01-P